POSTAL SERVICE

39 CFR Part 111

Standards Governing the Design of Wall-Mounted Centralized Mail Receptacles

AGENCY: Postal Service.

ACTION: Proposed rule.

SUMMARY: The Postal Service™ is proposing to replace United States Postal Service® Standard 4B, Receptacles, Apartment House, Mail, which governs the design of wall-mounted centralized mail receptacles whether used in commercial, residential, mixed residential, or other types of structures. The proposed standard was developed through a consensus process and was agreed to by a committee of representatives from mailbox manufacturers; mailbox distributors; mailbox installers and servicers; Postal Service customers; multiunit residential and commercial property builders, owners, and managers; and the Postal Service. Proposed provisions in the Domestic Mail Manual would provide manufacturers and customers with notice of the specifications.

DATES: The Postal Service must receive written comments on or before May 21, 2004.

ADDRESSES: Written comments should be mailed or delivered to the Manager, Delivery Operations, U.S. Postal Service, 475 L'Enfant Plaza, SW., Room 7142, Washington, DC 20260-2802. Comments also may be sent electronically to wallmountedreceptacles@usps.gov. Copies of all written and e-mail comments will be available for public inspection and copying between 9 a.m. and 4 p.m., Monday through Friday, at the above address.

FOR FURTHER INFORMATION CONTACT: Jeffery W. Lewis, (202) 268-5233.

SUPPLEMENTARY INFORMATION: United States Postal Service Standard 4B, Receptacles, Apartment House, Mail, USPS-STD-4B, currently governs the design of apartment house mailboxes. This standard, adopted in 1975, prescribes design limitations in terms that are no longer consistent with the operational requirements of the Postal Service. The proposed revised standard is titled United States Postal Service Standard 4C, Wall-Mounted Centralized Mail Receptacles. The change in the title for the updated Standard, and the reference to the equipment as “wall-mounted centralized mail” receptacles rather than “apartment house mail” receptacles are made solely to reflect that the Standard applies to receptacles in a variety of residential and commercial buildings, and not only “apartments.” Adoption of the proposal will not result in any change in Postal Service policies concerning the purchase of this delivery equipment or the provision of delivery equipment for Postal Service customers previously in effect under STD-4B.

Under the Postal Reorganization Act, the Postal Service is responsible for the maintenance of an efficient nationwide system for collecting, sorting, and delivering of mail. 39 U.S.C. 403(b)(1). Customer mail receptacles are an important consideration in this system. Receptacles should offer measurable protection for mail. This system benefits both senders and addressees who rely on the Postal Service to deliver intact mailpieces. In addition, the design of receptacles should not present any potential safety hazards to carriers. Finally, a well-designed receptacle can be accessed and serviced quickly by carriers, which helps to reduce Postal Service costs.

As noted above, the current standard for mail receptacles in apartment and commercial buildings was adopted more than a quarter century ago, in 1975. The Postal Service and its customers have changed considerably during that time. In particular, there have been significant changes in the volume and type of mail received by many customers, with the average customer receiving more pieces on a daily basis and often larger-sized pieces. Postal Service statistics indicate that, since 1985, flat-sized mail volume has increased by 47 percent and parcel-shaped mail volume has increased 42 percent. Receptacles that were adequate to support the daily volume of mail in earlier years cannot easily hold many customers' mail today. As a result, delivery is less efficient since carriers must take extra time to prepare (i.e., fold or bend) the mail in order to insert it into customer receptacles. The mail may inadvertently be marred as a result of this effort. Accordingly, the proposed changes, as described more fully below, provide for larger receptacles than the minimum sizes in the current standard. The proposed sizes are intended as minimum standards. Buildings may provide larger sizes to accommodate the needs of their tenants, and it is expected that manufacturers will offer a wide range of products to meet customer needs

In addition, the proposed changes generally require the provision of some larger shared receptacles, usually referred to as parcel lockers, based on the number of units in the building. These receptacles will not be assigned to specific residents, but will be used for the delivery of mail matter that, due to size or quantity, cannot be placed in the receptacle assigned to the addressee. This system obviates the need for the Postal Service to redeliver the mail or for the addressee to pick it up at a Postal Service retail facility. Postmasters shall consider excusing buildings from the need to provide parcel lockers if they have an agreement in place, as is the case with some commercial and residential buildings, for an alternative type of parcel delivery (e.g., concierge service or acceptance at the building management office), or if they provide receptacles for tenants that exceed the minimum size requirements and can accommodate parcels.

Additionally, mail security has become a growing concern of the Postal Service. Statistics collected by the Postal Inspection Service demonstrate that theft of the mail is a growing problem. From 2000 to 2002, Postal Inspection Service statistics indicate that reported attacks on wall-mounted boxes increased from 988 in FY 2000 to 2,819 in FY 2002. Moreover, it does not appear that these attacks are limited to a particular region of the country, but are occurring in different areas. In any event, even if the number of incidents had remained static, mail security would still be an area of concern since identity theft has become one of the motives for mail theft and this crime has potentially devastating financial impact on victims. The current generation of receptacles is not well suited to provide adequate physical security in this environment. According to a report issued by the Federal Trade Commission on September 3, 2003, a recent survey indicates that 27.3 million Americans have been victims of identity theft in the last 5 years, with 9.9 million victims in the last year alone. The reported cost of these crimes last year was $53 billion, affecting both businesses and individuals, with an average loss of approximately $5,000. Although stolen mail accounted for only 4 percent of these crimes, the Postal Service is seeking means to reduce the effectiveness of these attacks on our customers as much as possible. Accordingly, as explained below, the proposed revised Standard includes features to significantly improve the security of the receptacles.

Based on these concerns, the Postal Service determined to review the existing Standard for wall-mounted receptacles to determine if improvements were possible. It determined to use a consensus process in developing the proposed revised Standard. In a consensus process, representatives of interests that would be substantially affected by a new rule meet as an advisory committee and negotiate among themselves and with the agency to reach a consensus on a proposed new rule.

In this instance, the Postal Service retained the services of an independent, neutral third party to convene a Consensus Committee and facilitate discussions of committee members. Based on the convener's recommendation, the Postal Service invited interested parties that were expected to be substantially affected by the new rule to become Consensus Committee members. Further, committee members were responsible for representing other interested individuals and organizations that were not present at committee meetings and keeping them informed of the committee's proceedings.

As part of the ground rules agreed to by all members of the Consensus Committee, the Postal Service agreed to use a recommendation by the committee as the basis for the proposed rule. In addition, each private member of the committee stipulated that, if it agreed to a recommendation by the committee, it would support that recommendation and the proposed rule except to the extent that it does not reflect the recommendation. As part of its process, the Consensus Committee held several meetings that were open to the public. The committee has also agreed to meet, either in person or by teleconference, approximately 6 and 12 months after publication of the Final Standard, to discuss any implementation or other issues that arise after adoption of the new Standard.

In all, twenty parties were members of the committee. The Committee members were as follows: Academy Mailbox Company, Inc.; American Eagle Mailbox Manufacturing Company; American Locker Security Systems; Associated Building and Contractors, Inc.; Auth-Florence Manufacturing Corp.; Bommer Industries, Inc.; Building Owners and Managers Association International; Compx Security Products; Direct Marketing Association; HSS Industries; Jensen Industries; Magazine Publishers Association; National Association of Home Builders; National Association of Housing and Redevelopment Officials; National Association of Realtors; National Multi Housing Council/National Apartment Association; Parcel Shippers Association; Postal Products Limited; Salsbury Industries; and the United States Postal Service.

Each member of the committee, except one, signed the final agreement and agreed to the Final Committee Standard that is the basis for this proposed rule. The other committee member, National Association of Home Builders, although not a signatory to the agreement, stated that it was in substantial agreement with the requirements except with respect to parcel lockers. The proposed standard defines the new delivery equipment design requirements and other approval process requirements that must be met in order to receive design approval from the Postal Service. It is not intended to provide a private right of action or otherwise serve any nonpostal purposes.

The following table compares requirements of the proposed standard, which shall be titled USPS-STD-4C, to the old standard, USPS-STD-4B, and the modified version of USPS-STD-4B, which shall be referred to as STD-4B+ (refer to the STD-4B+ description provided later in this section):

Requirements Comparison
USPS-STD-4C | USPS-STD-4B | USPS-STD-4B+
New Minimum Std. Form Factor = 3″H × 12″W × 15″D | Horizontal Form Factor = 5″H × 6″W × 15″D | Same as STD-4B.
Vertical Form Factor Eliminated | Vertical Form Factor = 5″W × 6″D × 15H | Same as STD-4B.
Parcel Lockers—Integral & Stand Alone options with 1:10 PL to Tenant Compartment Ratio | No Parcels Lockers | Same as STD-4B.
Stringent and Comprehensive Security Requirements for Entire Receptacle | Minimal Security Requirements | Improved Arrow lock compartment security requirement.
Standard Patron Lock Design | Non-Standard Patron Locks | Same as STD-4B.
Engineered for Indoor & Outdoor Use | Engineered for Indoor Use Only | Same as STD-4B.
Independent Laboratories to Perform Most Testing; USPS to Perform Security Testing | USPS Performed All Testing | Same as STD-4B.
Quality Management System Provisions | None | Same as STD-4B.
Enhanced Design Flexibility | Nominal Design Flexibility | Same as STD-4B.
Ergonomically Designed | Ergonomics Not Factored in | Same as STD-4B.
Americans with Disabilities Act (ADA) Compliant | Install Instructions Did Not Address ADA Requirements | Same as STD-4B.

Although not included as part of the revised Standard, the Consensus Committee also considered other issues related to the implementation of the new Standard, if it is adopted. These concerns include the types of properties whose receptacles are subject to the new Standard, the dates by which affected buildings must comply with the new Standard, and the conditions under which existing buildings must replace receptacles with boxes meeting the new Standard. In considering these issues, particularly the latter two, the Postal Service and Committee members were mindful of conflicting concerns. That is, there is a need to weigh the benefits that would be realized from the installation of receptacles meeting the new Standard against the potential costs this would impose on building owners. Additionally, the effective date of the changes needs to be consistent with the ability of the construction industry to include the new receptacles in new structures.

The committee did not attempt to conduct a formal cost-benefit analysis in considering these questions. In many instances, the assignment of precise amounts to the benefits and costs was considered a difficult task. Nevertheless, throughout the meetings, committee members identified a number of benefits and costs that would occur from the promulgation of Standard 4C. Building owners/managers, their tenants, persons and firms corresponding with the tenants, and the Postal Service are expected to realize benefits from the installation of Standard 4C receptacles. The receptacles will accommodate larger volumes of mail and different size pieces, and minimize consequences incurred by pieces during delivery to smaller receptacles. Tenants will have more flexibility in using the boxes to hold mail, particularly during days when they may be away. The receptacles will also provide increased mail security. They will more easily be served by carriers, increase service efficiencies, and facilitate earlier delivery. The new receptacles should reduce maintenance costs incurred by building owners, and may result in cleaner, less cluttered lobbies. The provision of larger receptacles and parcel lockers will allow tenants to avoid the need for trips to their Post Office™ to pick up mail. It may also allow some building owners to reduce office staff, particularly in buildings that provide such staff to receive parcels addressed to tenants.

The costs are not necessarily limited to the costs of the receptacles and their installation, but could also include the costs of modifying buildings to accommodate the increased size of receptacles under STD-4C. These costs will be incurred by building owners and, indirectly, by their tenants. Although the committee did not develop a firm number for the cost of Standard 4C receptacles, two of the manufacturers on the committee estimated the cost would be 15 to 30 percent more than STD-4B receptacles.

Under the agreement reached by the Consensus Committee, the provisions of Standard 4C would apply to certain multiunit structures for residential and/or commercial use containing four or more units. These include structures where the units are reached through a common entrance or entrances from the street. Structures where apartments or commercial units are accessed from individual entrances, such as townhouses, will not be subject to this Standard.

Only new structures and existing structures undergoing substantial renovation, as defined below, would be required to install receptacles meeting the requirements of Standard 4C. In addition, any owners seeking new service or the resumption of mail service shall be required to install receptacles meeting Standard 4C (for example, a warehouse that converts to a residential or multiunit use that qualifies for centralized delivery). The new STD-4C would be implemented 2 years from its publication. This period will be measured by the date that an application for a permit for the structure is submitted with the appropriate government officials. That is, if the permit documents are submitted less than 2 years after the publication of the new Standard in the Federal Register, the building owners will be encouraged, but not required, to install receptacles meeting the Standard 4C specifications. Instead, these buildings may install receptacles meeting the requirements of Standard 4B for up to 180 days after publication of the Final Standard in the Federal Register, or the security-enhanced Standard 4B+ (described below). If a permit application is submitted 2 or more years after publication of the Final Standard in the Federal Register, the receptacles in the building must meet the Standard 4C specifications.

The determination whether any building project is a “substantial renovation” requiring the installation of new STD-4C receptacles is based upon the nature of the project. Projects involving structural alterations in the mailbox area that create the opportunity to accommodate wall-mounted mail receptacles meeting the Standard 4C requirements may be considered substantial renovations. In contrast, routine, intermittent maintenance; painting; replacement, repair, or upgrades of carpets, floors or furniture; and replacement or repair of mail receptacles will not be considered “substantial renovation” when standing alone; a different conclusion may apply if such work is part of more substantial projects. For purposes of this determination, the term “mailbox area” shall be broadly construed and is not limited to the precise space in which mailboxes are located. Rather, it will include the aggregate area in which the mailboxes are housed, such as the lobby area of the building if that is where the boxes are located.

A building project determined to be a “substantial renovation” under this standard will not invariably require the installation of STD-4C receptacles. Postmasters may grant exceptions in appropriate circumstances from all or portions of the Standard 4C requirements (e.g., a postmaster may grant an exception from the parcel locker requirement if the building management agrees to accept oversized mail and packages for tenants, while not excusing compliance with requirements for the new form factor in individual customer receptacles). Such circumstances include, but are not limited to, a finding that the changes required to install STD-4C receptacles will cause the building to violate local building codes or other laws (e.g., by restricting access to or egress from the building), will create significant safety hazards (e.g., disturbance of asbestos), or will impose unreasonable financial hardship on the owner. Building owners seeking an exception from the need to install STD-4C receptacles under these provisions should submit documentation substantiating the reason(s) for their request to the postmaster.

Building owners that replace receptacles more than 2 years after the publication of the Standard 4C, but that are not required to meet the requirements of that Standard (i.e., because it is not a new or substantially renovated building or because the owner has received an exception from the Postal Service), will be required to install replacement receptacles that instead meet the requirements of a modified version of Standard 4B (referred to as Standard 4B+). In general, this modified version will maintain the size requirements of Standard 4B; however, more stringent security requirements will be required for certain critical features of the boxes.

Receptacles that are not approved under the requirements of either Standard 4C or 4B+ may not be installed in buildings more than 180 days after the publication of Standard 4C, even though those receptacles were approved receptacles under Standard 4B. Receptacles meeting the requirements of Standard 4B+ may be installed in new buildings if the permit application has been submitted less than 2 years after publication of the Final Standard in the Federal Register.

Approval Process for Receptacles

In order to be eligible for Postal Service carrier mail delivery, receptacles must be approved by the Postal Service. In order to receive approval under STD-4C, the manufacturer must submit the receptacle(s), along with the supporting materials listed in section 6 of the Standard, to the Postal Service at the following address: ATTN Delivery and Retail Systems, USPS Engineering, 8403 Lee Hwy, Merrifield VA 22082-8101.

In addition, manufacturers that are currently authorized to distribute delivery equipment under STD-4B will be required to upgrade the receptacles and seek recertification of those receptacles under STD-4B+. New manufacturers will not be permitted to submit STD-4B+ receptacles. If this proposal is adopted, the Postal Service will provide notice to manufacturers that manufacture receptacles that were approved under Standard 4B concerning the need for reapproval under Standard 4B+, the STD-4B+ specifications, and the timetable for obtaining recertification, which is shown below. Submissions should be sent to USPS Engineering at the above address.

Event | Time after Federal Register Final Rule Date | Comment
Date of publication of USPS-STD-4C Federal Register final rule | N/A
USPS Engineering notifies all currently approved STD-4B vendors that written notification required if intending to submit STD-4B+ boxes | Up to 2 days | USPS to provide copy of USPS-STD-4B, Change 2, with letter to vendors; this has STD-4B+ requirements.
Written response to USPS Engineering letter from all currently approved STD-4B vendors only | Up to 60 Days | To notify USPS of vendor's intent to submit STD-4B+ boxes for approval.
USPS acceptance of STD-4B boxes for installs (new or replacement) | Up to 180 Days | No Arrow locks installed in any STD-4B receptacle by USPS after this time period.
Approval period for STD-4B+ designs for currently approved STD-4B vendors only | Up to 365 Days | USPS must reply to each submittal within 45 days; no limit on number of submittals for any vendor.
STD-4C receptacles only (no STD-4B+) for all new construction permits and qualifying renovations | After 2 years | Based on date of permit, not occupancy (start of mail delivery).

The Postal service also proposes changing the Domestic Mail Manual (DMM) to ensure that manufacturers are aware of the specifications and procedures to obtain approval of their receptacles. Additional provisions would ensure that customers in structures in which delivery is to be provided through wall-mounted receptacles are aware of the need to provide approved equipment as a condition for such delivery.

Although exempt from the notice and comment requirements of the Administrative Procedure Act [5 U.S.C. 553(b), (c)] regarding proposed rulemaking by 39 U.S.C. 410(a), the Postal Service invites comments on the following proposed revisions of the DMM incorporated by reference in the Code of Federal Regulations (CFR), see 39 CFR part 111, and Standard USPS-4C.

List of Subjects in 39 CFR Part 111

Administrative practice and procedure, Postal Service.

Accordingly, as stated in the preamble, the Postal Service proposes to amend 39 CFR part 111 as follows:

PART 111—[AMENDED]

1. The authority citation for 39 CFR part 111 continues to read as follows:

Authority: 5 U.S.C 552 (a); 39 U.S.C. 101, 401, 403, 404, 414, 416, 3001-3011, 3201-3219, 3403-3406, 3621, 3626, 5001.

2. Revise the following sections of the Domestic Mail Manual (DMM) as follows:

Domestic Mail Manual (DMM)

* * * * *

D DEPOSIT, COLLECTION, AND DELIVERY

D000 Basic Information

* * * * *

D040 Delivery of Mail

D041 Customer Mail Receptacles

* * * * *

[Add new section 3.0, as follows]

3.0 WALL-MOUNTED CENTRALIZED MAIL RECEPTACLES

3.1 Manufacturer Requirements

Manufacturers of wall-mounted centralized mail receptacles used for mail delivery must receive approval under the specifications and procedures set forth in USPS Standard 4. The specifications and other applicable information can be obtained by writing to USPS Engineering (see G043 for address) or wallmountedreceptacles@usps.gov.

3.2 Customer Requirements

The installation of proper equipment is required for the provision of delivery service. The type of equipment must be approved by the Postal Service under 3.1 and must be appropriate for the structure. Customers should discuss the types of approved equipment permitted for their structures with their postmaster before purchasing and installing delivery equipment. For more information, contact wallmountedreceptacles@usps.gov.

3. Revised USPS Standard 4 as follows:

U.S. POSTAL SERVICE STANDARD

WALL-MOUNTED CENTRALIZED MAIL RECEPTACLES

1. SCOPE

1.1 Scope—This standard covers the design, testing, and acceptance of wall-mounted, centralized mail receptacles. The use of this standard is mandatory and the receptacles shall conform to this standard in order to be approved by the Postal Service™.

1.2 Suggested Design Types—Wall-mounted, centralized mail receptacles may be of the general types as shown in figures 1 through 12. The depicted representations are only examples of possible compartment configurations. The intention of these figures is not to dictate specific designs and compartment arrangements, but to portray design examples that meet the requirements. In all cases, the units shall be designed for fully recessed wall mounting.

Type I, Front Loader—A family of mail receptacles in a single column configuration with a single master door design, a minimum of 3 and a maximum of 8 customer compartments, 1 mail collection compartment with separate outgoing mail slot and Arrow lock door, and 1 parcel compartment.

Type II, Front Loader—A family of mail receptacles in a double column configuration with a double master door design, a minimum of 3 and a maximum of 16 customer compartments, 1 mail collection compartment with separate outgoing mail slot and Arrow lock door, and 1 or 2 parcel compartments.

Type III, Front Loader—A family of mail receptacles in a double column configuration with a single master door design, a minimum of 3 and a maximum of 16 customer compartments, 1 mail collection compartment with separate outgoing mail slot and Arrow lock door, and 1 or 2 parcel compartments.

Type IV, Rear Loader—A family of mail receptacles in a single column configuration with a rear access cover design, a minimum of 3 and a maximum of 8 customer compartments, 1 mail collection compartment, and 1 parcel compartment.

Type V, Rear Loader—A family of mail receptacles in a double column configuration with a rear access cover design, a minimum of 3 and a maximum of 16 customer compartments, 1 mail collection compartment, and 1 or 2 parcel compartments.

Type VI, Front Loader (No Parcel Compartment)—A family of mail receptacles in a single column configuration with a single master door design, a minimum of 3 and a maximum of 9 customer compartments, and 1 mail collection compartment with separate outgoing mail slot and Arrow lock door.

Type VII, Rear Loader (No Parcel Compartment)—A family of mail receptacles in a single column configuration with a rear access cover design, a minimum of 3 and a maximum of 9 customer compartments, and 1 mail collection compartment.

Type VIII, Front Loader (No Parcel Compartment)—A family of mail receptacles in a double column configuration with a double master door design, a minimum of 3 and a maximum of 19 customer compartments, and 1 mail collection compartment with separate outgoing mail slot and Arrow lock door.

Type IX, Rear Loader (No Parcel Compartment)—A family of mail receptacles in a double column configuration with a rear access cover design, a minimum of 3 and a maximum of 19 customer compartments, and 1 mail collection compartment.

Type X, Front Loader, Parcel Only (No Master Door)—A family of parcel receptacles in a single column configuration without a master door design. These units are designed to provide separate parcel delivery capability for wall-mounted centralized mail receptacles installed without integral parcel compartments.

Type XI, Front Loader, Parcel Only—A family of parcel receptacles in a single column configuration with a master door design. These units are designed to provide separate parcel delivery capability for wall-mounted, centralized mail receptacles installed without integral parcel compartments.

Type XII, Rear Loader, Parcel Only—A family of parcel receptacles in a single column configuration with a rear access cover design. These units are designed to provide separate parcel delivery capability for wall-mounted, centralized mail receptacles installed without integral parcel compartments.

1.3 Approved Manufacturers—A list of approved manufacturers is available upon request from: USPS Engineering, Delivery and Retail Systems, 8403 Lee Highway, Merrifield VA 22082-8101.

1.3.1 Interested Manufacturers—Manufacturers interested in selling wall-mounted, centralized mail receptacles to the public are required to obtain Postal Service approval. See section 6 for the application process.

2. APPLICABLE DOCUMENTS

2.1 Specifications and Standards—Except where specifically noted, the specifications set forth herein shall apply to all receptacle designs.

2.2 Government Documents—The following documents of the latest issue are incorporated by reference as part of this standard.

United States Postal Service

POM Postal Operations Manual

Copies of the applicable sections of the Postal Operations Manual can be obtained from USPS Delivery and Retail, 475 L'Enfant Plaza SW., Washington, DC 20260-6200.

USPS-L-1172 Locks, Compartment, Customer—PSIN O910

Copies of United States Postal Service specifications, standards and drawings may be obtained from USPS Delivery and Industrial Equipment CMC, Greensboro, NC 27498-0001.

2.3 Non-Government Documents—The following documents of the latest issue are incorporated by reference as part of this standard.

STANDARDS

American Society for Testing and Materials (ASTM)

ASTM G85 Standard Practice for Modified Salt Spray (Fog) Testing

ASTM D968 Standard Test Methods for Abrasion Resistance of Organic Coatings by Falling Sand

ASTM D3801 Standard Test Methods for Measuring the Comparative Burning Characteristics of Solid Plastics in a Vertical Position

Copies of the preceding documents may be obtained from the American Society for Testing and Materials, 100 Barr Harbor, West Conshohocken, PA 19428-2959. (http://www.astm.org)

Underwriters Laboratories

UL 771 Night Depositories (Rain Test Only)

Copies of the preceding document can be obtained from Underwriters Laboratories Inc., 333 Pfingsten Road, Northbrook, IL 60062-2096. (http://www.ul.com)

3. REQUIREMENTS

3.1 General Design and Construction—The general configurations of the wall-mounted, centralized mail receptacles shall conform to the requirements as described in this standard. The receptacles shall be designed and constructed so that they can be serviced according to the intended method, front or rear access. The receptacles shall be designed to allow wall mounting in accordance with the installation requirements as stipulated in this document and the applicable sections of the current Postal Operations Manual (POM) as referenced in section 2.2. The receptacle design shall preclude access from one compartment to another and it shall provide the required level of security for all receptacle contents and resistance to vandalism. The clearance between shelving sides and interior sides or rear walls shall prevent the passage of a 3½-inch (height) by 5-inch (length) by .007-inch thick card from one compartment to another.

The design of all wall-mounted, centralized mail receptacles may be of the types specified in 1.2. The design of all receptacles shall be such that the unit can be installed either indoors or outdoors. Outdoor installations shall be in compliance with conditions as described in this document and the applicable sections of the POM without damage or deterioration to the materials of the receptacle or to its contents. Each unit shall be made of the exact materials, construction, coating, finish, etc., as shown on the manufacturer's drawings, which are identified and certified by the Postal Service. The overall height, width, and depth of any receptacle shall be such that all the applicable mounting requirements shall be met.

All front-loading receptacles shall have fixed solid backs.

3.2 Materials—Latitude shall be allowed in the materials used. The thickness, form, and mechanical and chemical properties of the material shall be adequate to meet the operational, structural, and performance requirements set forth in this standard. Materials must be compatible with each other; nontoxic and nonirritating to humans. Dissimilar metals shall be protected against galvanic corrosion. The material used in the fabrication of this equipment shall be new, suitable for the purpose used, free from all defects, and of the best commercial quality for this type of equipment.

3.3 Colors, Coatings and Finishes—Exterior colors and finishes of the receptacles, in general, shall be optional with the manufacturer. Any finish or coating selected should meet all the requirements of this document.

3.4 Mounting and Hardware—The hardware for attaching the receptacle to the wall shall be provided and packaged with the unit. All mounting hardware shall meet the corrosion resistance requirements of this document. Mounting hardware shall not protrude from any part of the unit to create a hazardous catch or bump point for customers or carriers. The mounting hardware shall be accessible for replacement in the event of damage to the unit and shall be hidden from public view while in service. The mounting technique and hardware selected shall allow the receptacle, when wall-mounted in accordance with the manufacturer's instructions, to meet the pull requirements of section 4.11.9.

3.5 Customer and Parcel Compartment Doors—All compartment doors shall meet the common requirements listed in this section. In addition, each type of compartment doors shall meet any unique door requirements as described in 3.5.1 through 3.5.4 below.

All compartments of front-loading receptacles shall have their own door and shall be hinged on the right. The door hinges shall be concealed or designed to prevent tampering. The doors shall be designed to open, close, and lock without binding or excessive play. All doors shall open a minimum of 90 degrees. The clearance between door and door opening shall be evenly spaced, consistent in size, and minimized to preclude prying with such simple tools as knives, screwdrivers, thin metal strips, etc.

Optional compartment heights, requiring doors or blanking plates larger than the minimum, shall be allowable, except as stated in section 3.5.3. However, no offered compartment height shall preclude any of the critical installation requirements, or any other requirement, from being met. In addition, no compartment size shall be offered as “approved” that is larger than any Postal Service-tested and approved size for that particular manufacturer.

3.5.1 Customer Compartment Doors—Once opened, a customer door shall remain in the opened position until closed and locked. Each door shall permit the mounting of a lock as required by 3.10.1.

3.5.2 Parcel Compartment Doors—The doors shall be spring loaded to return the doors to the fully closed position. The spring shall be of sufficient strength to close the door from any opened position. The strength of the spring shall not be excessive as to create the potential for injury or cause the doors to “slam” shut. Each door shall permit the mounting of locks as required by 3.10.2.

3.5.3 Carrier Access (Arrow Lock) Door (Front Loader Designs)—The carrier access door shall have accommodations for mounting either Arrow lock shown in figure 13 in such a manner that the modified Arrow lock cylinder is flush with the front of the compartment door and the standard Arrow lock is slightly recessed. This door shall be designed to accommodate the mounting of the Arrow lock and the securing of a minimum-sized (3 inches high by 12 inches wide by 15 inches deep) compartment, which typically shall be used for retrieval of collection mail. For security reasons, under no circumstances shall this door be offered in any larger sizes. Once opened, the carrier access door shall remain in the opened position until closed and locked. This door shall not be numbered or lettered.

3.5.4 Collection Mail Compartment Blanking Plate (Rear Loader Designs)—Rear loader receptacles shall have a blanking plate, sized to cover a minimum 3 inches high by 12 inches wide compartment, directly beneath the collection mail slot. This plate ensures a minimally acceptable compartment volume for the customer outgoing mail on rear loaders.

3.6 Master Loading Door(s)

3.6.1 Front Loader Designs—These units shall be equipped with a master loading door(s) on the same side as the individual compartment and parcel doors. The master loading door(s) shall allow access to all the unit's customer compartments and parcel compartments for the deposit of letter mail and parcels and the collection of customer outgoing mail. The master loading doors shall be designed not to interfere with the loading of customer and parcel compartments. These doors shall be designed so the withdrawal of mail through the individual customer doors allows the mail to slide smoothly over any parts of the master, customer, or parcel doors. The master loading door(s) shall be easy to open and close. For any double master loading door design, the doors shall be hinged on opposite sides and latched at the center of the unit. The door hinges shall be continuous or concealed and designed to prevent tampering. The doors shall lock in the open position by an automatic self-locking device until the delivery employee completes loading. The doors shall be held open at an angle of 90 degrees (+5,−0). The delivery employee shall be able to easily release the hold open device to close the door when loading has been completed. The door hold-open device shall withstand an inward or outward pull of 50 (+5, −0) pounds when applied to the master door edge farthest from the master door hinge and in a direction perpendicular to the door. (Note: For any nonparcel compartment design, disregard parcel compartment references.)

The master loading door for any single door receptacle design and the right master loading door for any double master door design shall, as a minimum, have provisions and accommodations for a three-point (top, middle, bottom) latching mechanism, exclusive of the hinges, in conjunction with either a standard or modified Arrow lock to secure the door. Unless used solely as an actuator for locking pin(s), the Arrow lock shall lock the master loading door latch mechanism to ensure that the master loading doors are securely latched and that the latch mechanism cannot be moved. A limited loading shall be permitted on the end of the Arrow lock bolt only when the Arrow lock is used as an actuator to engage locking pins. In this case, the locking pin(s) shall secure the Arrow lock door to the master loading door frame. Only Arrow locks dimensioned in figure 13 shall be acceptable. The latching mechanism shall be rigid in design to avoid distortion. Locknuts shall be included for installing the Arrow lock. The master loading door(s) shall be easy to open, close, and lock. The carrier access shall not have pinch points or sharp edges. Clearance between the door and door opening shall be evenly spaced and consistent in size. The master loading doors shall be easily unlatched and opened using one hand. The latch mechanism may be mounted either on the unit frame or the master loading door. Clearance below the latch handle in either case shall be a minimum of 1.25 inches. When the carrier activates a master loading door latch mechanism mounted on the unit frame, the outer edge of the master loading door shall be automatically opened a minimum of 1 inch outside the door frame, enabling the carrier to easily grasp the door. When the latch mechanism is mounted on the unit frame, the handle must provide between 1.25 and 1.50 inches of grip length and a minimum of 1 square inch of surface area. When the carrier activates a master loading door latch mounted on the door, the latch handle may be used to pull the door open. When the latch mechanism is mounted on the door, the handle must provide a minimum of 1.75 inches of grip length. In any double master door design, when the master loading door with the Arrow lock traps, or locks the left master loading door, a push-out device shall not be required if the carrier can easily grasp and open the left door.

3.6.2 Rear Loader Designs—The master loading door for any rear loading units shall be in the form of a rear cover or door, which can be opened or removed and closed or replaced by the mail carrier, which will permit delivery of mail to each compartment. The cover or door shall prevent the mail from falling out between the cover or door and shelves, and be strong enough to prevent theft of the contents of adjoining receptacles by manually forcing the rear door or cover from the front of the receptacle through a compartment. The cover or door shall be capable of being latched or secured; locking is not required.

3.7 Customer and Parcel Compartment Sizes—Customer and parcel compartment size requirements shall be as specified below.

3.7.1 Customer Compartment Sizes—The minimum interior dimensions of each customer delivery compartment shall be 3 inches high by 12 inches wide by 15 inches deep. Optional compartment heights, greater than the 3 inch minimum, shall be allowable, and mixed size customer compartments may be offered in any one unit. However, no combination shall preclude any of the critical installation requirements, or any other requirement, from being met. In addition, no compartment size shall be offered as “approved” that is larger than any Postal Service-tested and approved size for that particular manufacturer.

3.7.2 Parcel Compartment Sizes—The minimum interior dimensions of the parcel compartments shall be as follows:

(a) Standard Parcel Locker—15 inches high by 12 inches wide by 15 inches deep

(b) Large Parcel Locker—18 inches high by 12 inches wide x 15 inches deep

3.7.2.1 Parcel Locker to Customer Compartment Ratio—A minimum of one standard parcel locker shall be provided for every ten customer compartments. For installation sites with less then ten customer compartments, there shall be no mandatory parcel locker requirement, however, it shall be the intent of the Postal Service to strongly encourage the inclusion of a parcel locker.

3.8 Collection Mail and Carrier Access (front-loading designs only) Compartment—All units shall have one reinforced collection mail compartment. A mail deposit slot 10.75 inches wide by .75 inches high shall be provided with a weather shield and a security shield to protect the deposited mail from the rain and snow and to prevent removal of the mail by fishing and pilfering techniques through the deposit slot. This compartment shall not be numbered or lettered. The phrase “OUTGOING MAIL” shall be marked on the deposit slot shield in black, recessed lettering. Marking shall be permanent and lettering size shall be ⅜ to ½ inch high.

3.8.1 Front-Loading Designs—For front-loading designs, the front of the minimum-sized collection compartment shall consist of the carrier access (Arrow lock) door, as described in section 3.5.3, and the mail collection/deposit slot, which is framed by separate elements providing the weather and security shielding. The mail deposit slot frame design shall be hard mounted to the master door structure. Optional outgoing mail compartment heights shall be allowable. Hard-mounted front blanking plates shall be used as required under the Arrow lock door for any larger collection mail compartment offerings. In addition, no offered outgoing mail compartment height shall preclude any of the critical installation requirements, or any other requirement, from being met, and no compartment size shall be offered that is larger than any fully tested size.

3.8.2 Rear-Loading Designs—For rear-loading designs, the front of the minimum-sized collection compartment shall consist of a blanking plate hard mounted to the master door structure and the mail collection/deposit slot, which is framed by separate elements providing the weather and security shielding. Optional outgoing mail compartment heights, requiring blanking plates larger than the minimum, shall be allowable. However, no offered outgoing mail compartment height shall preclude any of the critical installation requirements, or any other requirement, from being met. In addition, no compartment size shall be offered that is larger than any fully tested size.

3.9 Identification—Customer and compartment identifications shall be in the following manner.

3.9.1 Customer Compartment Identification—Customer compartment doors shall be identified using either numbers or letters, optionally, in sequence from top to bottom. For any double master door designs, the numbers or letters shall start from the upper left corner compartment. In addition, they shall be ¾ to 1 inch high, sequential, black, and recessed. They may be engraved or stamped. Brushed aluminum decals with black numbering may be used, provided the decals are recessed in the door or a raised rib is provided around the decal to enhance the decal's location and limit removal. Decals shall be secured using a permanent type of adhesive. Numbers shall be made with one decal and not a combination of two single letter or number decals. In the horizontal direction, the centerline of the numbers shall be to the right of the customer lock (top lock) centerline. In the vertical direction, the customer lock and the numbers shall be the same centerline.

3.9.2 Parcel Compartment Identification—Parcel compartment doors shall be provided with ¾ to 1 inch high, sequential, black, recessed numbers. Numbers may be engraved or stamped. Brushed aluminum decals with black numbering may be used, provided they are recessed in the door or a raised rib is provided around the decal to enhance decal location and limit removal. Decals shall be secured using a permanent type of adhesive. Numbers shall be made with one decal and not a combination of two single letter or number decals. Raised lettering shall not be acceptable. Parcel compartment doors shall be numbered (typically, 1P, 2P, etc). In the horizontal direction, the centerline of the letters shall be to the right of the customer lock (top lock) centerline. In the vertical direction, the customer lock and the numbers shall be the same centerline.

3.9.3 Customer Identification—A minimum ½ inch wide surface shall be located below the front of each delivery compartment shelf. The surface shall be concealed by the master door(s) and shall be visible only by the carrier once the master door(s) is opened. The surface provided shall be smooth and will allow for the optional attachment of self-adhesive labels. Alternatively, each compartment may be equipped with either a clasp or holder to accommodate a name card, or supplied with a designated flat surface for a permanent-type pressure-sensitive label for identifying the customer using the compartment. The holder or clasp shall be located on the frame above each compartment or inside of the compartment where the customer's name will be easily visible to the carrier when the box is opened for loading. The holder shall be of sufficient size to hold a name card of .75 inch by 2.50 inches or as large as space permits.

3.10 Locks—Locks and cams shall be provided as specified below.

3.10.1 Customer Compartment Locks—Each customer compartment door shall use a PSIN O910 lock, as specified in USPS-L-1172, or equivalent. The hole pattern for the lock is shown in figure 14. The hole shall be able to withstand 100 foot pounds of rotational torque, preventing the lock from being turned in the door allowing unauthorized entry into the compartment. The locks shall be oriented so that the locking cam rotates 90 degrees from the locked to the unlocked position. The key shall be removable only in the locked position. Individual customer locks shall be located in the compartment doors on the left side. Each lock shall be provided with three keys as specified in section 3.11.1. Key numbers shall not be placed on any exterior exposed surface. Cams shall be designed by the manufacturer to allow a secure grip of the lock to the compartment side wall. Each compartment lock shall be keyed differently in each receptacle. The locks must be securely fastened to the door to preclude punching out and twisting off. All customer compartment doors shall be locked for shipment.

3.10.2 Parcel Compartment Locks—Each parcel compartment door shall be configured to accept a combination 910/Arrow lock arrangement. The 910 lock shall serve as the customer access lock. Any parcel compartment provided as an integral part of a receptacle design shall have a 910 lock that is keyed differently than any customer compartment lock in the receptacle. The lock may itself provide the locking cam to secure the parcel door or it may be used as an actuator in such a way as its cam moves locking pins into place to secure the parcel door. The locking pins would withstand the pry attack loads. The Arrow lock “captures” the 910 lock after its key has been inserted and the lock turned to allow the customer to remove their parcel. The Arrow lock and the 910 lock shall be located in a partitioned compartment and, for ease of maintenance reasons, shall not share the same compartment cover. The 910 lock cover shall be secured with standard hardware while the Arrow lock compartment cover shall be secured with tamper resistant screws. All parcel compartment doors shall be locked for shipment.

3.10.3 Master Loading Door Lock (Front-Loading Designs)—Front-loader receptacles shall be secured with an Arrow lock, in accordance with figure 13, to lock the master loading door(s) as defined in section 3.6.1. These units shall be configured so that the Arrow lock is always located directly beneath the collection mail slot. The mail slot and the Arrow lock door (carrier access door) shall share the same compartment but be separate items for security reasons. The Arrow lock shall be furnished and installed by the local postmaster or his representative. In addition, the Postal Service will provide dummy Arrow locks for test purposes upon request.

3.11 Keys and Key Identification—All compartment keys for locks in accordance with USPS-L-1172 or equivalent shall be identified and perform in the following manner to allow for efficient control, security, and operation. No two compartments in the same receptacle shall be keyed alike. In addition, the full complement of required key codes shall be utilized in sequential order prior to repeating any individual key code within a production lot of receptacles. All keys shall have any burrs removed and shall move freely in and out of the lock. When the lock is installed and the key is inserted, the locks must be positioned so that the key is free to turn without binding or contacting/scraping any adjoining surface.

3.11.1 Compartment Keys—Three keys shall be provided for each customer compartment and shall be delivered on a single key ring. All keys shall be temporarily identified for their respective compartment, bagged, and securely taped inside the collection compartment for shipping.

3.11.2 Parcel Keys and Tags—Heavy-duty, rigid, clear plastic tags with card inserts containing instructions to the Postal Service customer on the use of the key, shall be furnished with each key for an individual parcel receptacle. The plastic tags shall be 1½ ±1/16 inches wide by 3 ±1/16 inches long by 3/16 (+1/16, −0) inches thick, and shall have an opening at one end for a key ring. All holes or openings shall be reinforced. The tags shall also have a swivel device for key ring mounting. Heavy-duty rings for attaching the holder to the individual key shall be provided for parcel receptacle keys. The key shall not be easy to remove from the key ring. Each insert card shall be identified with a serial number that is the same as the mail receptacle unit's serial number. The cards shall be numbered (e.g., 1P, 2P, etc) to correspond with their respective parcel receptacles. Card insert lettering shall be legible and of sufficient size and contrast to be easily read. All keys shall move freely in and out of the lock. Three keys shall be provided for each receptacle lock, tagged with the clear plastic holder for their respective receptacle, and placed in the same bag with compartment keys.

The card insert shall be as follows:

Clear Plastic Holder YOU HAVE MAIL IN RECEPTACLE # *_____ with card insert (side UNLOCK TOP LOCK AND REMOVE MAIL. A & B) KEY REMAINS IN LOCK.

*NOTE: The manufacturer shall provide the numbers and names as specified above.

3.12 Marking—For front-loading designs, there must be two inscriptions centered on the carrier access door: “U.S. MAIL” in a minimum of .50 inch high letters and “APPROVED BY THE POSTMASTER GENERAL” in a minimum of .18 inch high letters. For rear-loading designs, these inscriptions must be centered on the blank panel of the outgoing mail compartment. These inscriptions shall be positioned in a vertical stack with “U.S. Mail” appearing above “APPROVED BY THE POSTMASTER GENERAL.” Markings must be permanent and may be accomplished by applying a decal, embossing on sheet metal, applying raised lettering on plastic, or using other methods that are suitable. In addition, a legible and permanently marked decal with “USPS-STD-4C,” the manufacturer's name, address, date of manufacture (month and year), unit serial number, and model number or nomenclature must be affixed to the receptacle in a location that is readily visible to carriers.

3.13 Assembly and Installation Instructions—A complete set of instructions including illustrations for assembling and installing the receptacle shall be prepared and provided with each receptacle. Both front- and rear-loading receptacles shall be mounted in accordance with the installation requirements as stipulated in this document and the applicable sections of the current Postal Operations Manual (POM) as referenced in section 2.2. The installation described shall be tested in accordance with the testing of section 4.11.9. These instructions shall completely convey all recess wall-mounting details, including equipment installation height restrictions as provided in the figures and the parcel locker ratio information. In addition, the instruction sheet shall carry a notice that the receptacle met all requirements of the Postal Service standard.

3.14 Workmanship—Workmanship shall be of the highest quality throughout. All parts shall be clean, straight, accurately formed and assembled, properly fitted, and uniform in size and shape. Parts shall be free from delaminations, cracks, warpage, bulges, kinks, dents, porosity, voids, lumps, foreign matter, and other defects. Finished or coated surfaces shall be smooth and uniform, and free from soft areas, stain, chips, crazing, and cracks. Seams and connections shall be tight. Welding, riveting, and other joining shall be done in a neat and approved manner. The receptacle shall be free from sharp edges, sharp corners, protruding rivets, and operational features, which might injure or hamper the carrier or customer.

3.15 Bolted Connections—Bolts or screws that can be removed in any exposed area shall not be used for joining parts of the receptacle. Sheet metal screws shall not be used in the assembly of the receptacle.

3.16 Riveted Joints—Hollow-type eyelets or grommets shall not be used in the fabrication of the receptacle.

3.17 Welding—Any type of weld (electric-arc, resistance, gas, etc.) may be used in the fabrication of the receptacle, providing it produces a satisfactory and safe joint and is performed in accordance with applicable best commercial practices.

3.18 Fabrication and Assembly—All components and parts shall be fabricated and assembled to be permanently square and rigid to preclude binding, warping, or misalignment, which may reduce or prevent proper equipment operation or maintenance or may result in a premature failure of any part or component.

4. TESTING REQUIREMENTS

4.1 Testing Requirements—Units will be subjected to all applicable testing described herein. A unit that fails to pass any test will be rejected. Testing will be conducted in sequence as listed herein and in table III.

4.2 Capacity

4.2.1 Customer Compartments—Customer compartments must meet minimum capacity requirements tested by insertion and removal of a standard test gauge which measures 2-15/16 inches high by 11-15/16 inches wide by 14-15/16 inches deep. The test gauge will be inserted with its 2-15/16-inch dimension aligned in the vertical axis (perpendicular to the compartment floor). The gauge must be capable of easy insertion and removal, and while inserted, allow for the door(s) to be completely closed without interference.

4.2.2 Collection Mail Compartment—The collection mail compartment must meet minimum capacity requirements tested by insertion through the mail deposit slot of 48 standard letters (4.00 inches high by 9.50 inches long by .12 inch thick) and 4 Express Mail or Priority Mail envelopes (9.50 inches high by 12.50 inches long by .50 inch thick). Letter and envelope thicknesses shall be achieved by inserting 8.5 inch by 11 inch paper.

4.2.3 Parcel Compartment—Parcel compartments must meet minimum capacity requirements tested by insertion and removal of a standard test gauge which measures 14-15/16 inches high by 11-15/16 inches wide by 14-15/16 inches deep. The test gauge will be inserted with a 14-15/16 inch dimension aligned on the vertical axis (perpendicular to the compartment floor). The gauge must be capable of easy insertion and removal; and while inserted, allow for the door(s) to be completely closed without interference.

4.3 Operational Requirements—The carrier access (Arrow lock) door, customer doors, parcel doors, master loading door(s), and hold open device(s) must be capable of operating 10,000 normal operating cycles (1 cycle = open/close) at room temperature, continuously and correctly, without any failures such as breakage of parts. The cycle rate for carrier access (Arrow lock), customer and parcel doors shall not exceed 3 seconds per cycle. The cycle rate for the master loading door(s) and hold open device(s) shall not exceed 10 seconds per cycle. Testing may be performed either manually or by means of an automated, mechanically driven test fixture that replicates a manual operation.

4.4 Water-Tightness—A rain test in accordance with UL 771, section 47.7 shall be performed to determine a receptacle's ability to protect mail from water. Prior to the test, the unit shall be prepared by shielding the body of the receptacle so that only the master door, customer doors, and front frame elements shall be directly exposed to rain during the test. The rain test shall be operated for a period of 15 minutes on the customer compartment door (front) side of the mail receptacle. At the conclusion of the test, the outside of the unit is wiped dry and all doors are opened. The inside of the compartments must contain no water other than that produced by high moisture condensation.

4.5 Salt Fog Resistance—A salt fog test shall be conducted in accordance with method A5 of ASTM G85, Standard Practice for Modified Salt Spray (Fog) Testing. The salt test shall be operated for 25 continuous cycles with each cycle consisting of 1-hour fog and 1-hour dry-off. The unit shall be tested in a finished condition, including all protective coating, paint, and mounting hardware and shall be thoroughly washed when submitted to remove all oil, grease, and other nonpermanent coatings. No part of the receptacle may show finish corrosion, blistering, or peeling, or other destructive reaction upon conclusion of test. Corrosion is defined as any form of property change such as rust, oxidation, color changes, perforation, accelerated erosion, or disintegration. The buildup of salt deposits upon the surface shall not be cause for rejection. However, any corrosion, paint blistering, or paint peeling is cause for rejection. It is also valid for units made of plastic that employ metal hardware.

4.6 Abrasion Resistance—The unit's coating/finish shall be tested for resistance to abrasion in accordance with method A of ASTM D968. The rate of sand flow shall be 2 liters of sand in 22 ±3 seconds. The receptacle will have failed the sand abrasion test if less than 15 liters of sand penetrates its coating or if less than 75 liters of sand penetrates its plating. This test is applicable to metal receptacle designs only.

4.7 Temperature Stress Test—The unit under test shall be placed in a cold chamber at −40° Fahrenheit (F) for 24 hours. The chamber shall first be stabilized at the test temperature. After remaining in the −40°F environment for the 24-hour period, the unit shall be quickly removed from the cold chamber into room ambient and tested for normal operation. The removal from the chamber and the testing for normal operation shall be accomplished in less than 3 minutes. The room ambient shall be between 65° and 75° F. Normal operation is defined as operation required and defined by this document. The unit under test shall undergo a similar temperature test, as described above, at a temperature of 140° F.

4.8 Structural Rigidity Requirements—Pull loads of the specified magnitudes (see table II) shall be slowly applied at any point of the specific item of the unit under test. These forces shall be held for a time not to exceed one minute and then released. Supplemental bracing may be used to isolate the loading on the specific item to be tested. After the release of the load, the permanent deformation caused by the forces shall be measured. If the deformation exceeds the limit specified in table II, the unit under test has failed to meet the structural rigidity requirement.

Table II.—Pull Load Permanent Deformation Limits
Item | Permanent deformation (inches) | Pull load (pounds)
Carrier access (Arrow lock) door (front-loading designs) | ⅛ | 1400
Collection comp. front blanking plate (rear-loading designs) | ⅛ | 1400
Collection mail slot frame (all designs except parcel-only) | ⅛ | 1400
Master door(s) at hinge side—top & bottom (front-loading designs) | ⅛ | 1000
Master door at center along Arrow lock side—(front-loading designs) | ⅛ | 1000
Rear cover (rear-loading designs) | ⅛ | 250
Customer compartment door (all designs except parcel-only) | ⅛ | 250
Parcel compartment door (all designs except nonparcel versions) | ⅛ | 250
Master door hold-open device (front-loading designs) | 0 | 50

4.9 Impact Test—The front exposed surfaces of the receptacles and any coatings applied to them shall not be cracked, chipped, broken, dented (more than 1/16 inch in depth), or visibly permanently deformed by a hard steel 2-pound ball with a 1/2-inch spherical radius dropped from a height of 6 inches.

4.10 Flammability—A flammability test shall be conducted on all potentially flammable materials used in the unit. The test shall be conducted in accordance with ASTM D3801. The ASTM D3801 standard flame test shall achieve a rating of V-1 or better. (Note: It is the building owner's responsibility to make sure that the installation of any receptacle is in compliance with local building and fire codes.)

4.11 Security Test—Receptacles shall be tested, as described below, for resistance to tampering and unauthorized entry through the use of tools such as screwdrivers, flat plates, knives, pry bars, vise grips, pliers, chisels, and punches for a period not to exceed 3 minutes for each feature tested. No pry tools shall exceed 18 inches in length. Because of the critical nature of the master-loading door and Arrow lock (outgoing mail) compartment, a hammer shall be used in tandem with the other tools during tests of these items. The head weight of any hammer used shall not exceed 3 pounds. In addition, the Arrow lock compartment door will also be subjected to a 2-minute torch test using commonly available microtorch kits.

4.11.1 Customer Compartment and Parcel Compartment Customer Access Locks—Customer lock plugs shall withstand a minimum of 70 pounds of force slowly applied inward. Load forces shall be applied to the key entrance side of the lock. The lock and door shall remain closed and locked after each test. In addition, the locks shall be tested using vise grips and other tools in an attempt to turn the lock with the customer or parcel door in the closed position. These tests shall not allow access to the customer or parcel compartment.

4.11.2 Customer Compartment Doors—Gaps and seams around the perimeter of the customer compartment doors shall be tested using pry tools listed in 4.11 for a period not to exceed 3 minutes to ensure that access to the compartment cannot be gained. The lock-mounting hole in the door shall be able to withstand 100 foot-pounds of torque applied in the plane of the door, preventing the lock from being turned in the door allowing unauthorized entry into the compartment.

4.11.3 Parcel Compartment Door—Gaps and seams around the perimeter of the parcel compartment door(s) shall be tested using pry tools listed in 4.11 for a period not to exceed 3 minutes to ensure that access to the compartment cannot be gained.

4.11.4 Master Loading Door (Front-Loading Designs Only)—Seams around the perimeter of the master loading door(s) shall not allow access to the interior of the receptacle when tested using pry tools listed in 4.11 for a period not to exceed 3 minutes. A 3-pound hammer shall be used for a time period not to exceed 1 minute in tandem with these other tools during the tests of the master-loading door(s).

4.11.5 Arrow Lock Compartment Door (Front-Loading Designs Only)—The Arrow lock compartment door shall be tested using the pry tools in 4.11 for a period not to exceed 3 minutes. A 3-pound hammer shall be used for a time period not to exceed 1 minute in tandem with these other tools during the tests of various features of the Arrow lock compartment. Seams and gaps around the perimeter of the Arrow lock compartment door and the structural integrity of the door itself shall not allow access to the receptacle under test conditions. In addition, the Arrow lock compartment door will also be subjected to a 2-minute torch test using commonly available microtorch kits. (Note: These tests shall not be performed on the same test door.)

4.11.6 Outgoing Mail Slot—The mail slot and security shield design shall be tested using the pry tools in 4.11 for a period not to exceed 3 minutes. A 3-pound hammer shall be used for a time period not to exceed 1 minute in tandem with these other tools during the tests of the seams and gaps around the perimeter of the mail slot. In addition, as part of the test, a pry bar not exceeding 18 inches in length shall be inserted into the mail slot in an attempt to gain access to deposited mail in the compartment.

4.11.7 Outgoing Mail Compartment Front-Blanking Plate—Gaps and seams around the perimeter of any outgoing mail compartment front-blanking plate shall be tested using pry tools listed in 4.11 for a period not to exceed 3 minutes to ensure that access to the compartment cannot be gained. A 3-pound hammer shall be used for a time period not to exceed 1 minute in tandem with these other tools during the tests of the seams and gaps around the perimeter of this item.

4.11.8 Rear Door/Panel (Rear-Loading Designs Only)—The rear cover shall be tested for a period not to exceed 3 minutes by attempting to force it to unseat. No access to the backside of the unit or to any adjacent compartments shall be gained as a result of this test. All customer compartment and parcel locker doors shall be open for this test.

4.11.9 Receptacle Installation (All Designs)—Receptacles will be installed in a representative wall fixture in accordance with the installation instructions provided by the manufacturer. The receptacle's mounting hardware will be subjected to a uniform pull load of 500 pounds. This load will be applied by placing a bolster plate to the backside area of the receptacle and attaching it to one or more cables that are passed through drill holes added to the rear wall of the actual receptacle. Any front doors of customer compartments in alignment with the cables may be opened or removed for the test. All bolster plate cables will be tied together at a minimum distance of 3 feet from the front surface of the unit with a single cable fitted with a shackle, hook, etc. A maximum horizontal pull load of 500 pounds will be applied and the receptacle will have met this requirement if its mounting hardware is not loosened from its wall mount. Supplemental bracing of the wall may be used to isolate the loading on the receptacle's mounting hardware.

5. QUALITY MANAGEMENT SYSTEM PROVISIONS

5.1 Quality System—The approved source shall ensure and be able to substantiate that manufactured units conform to requirements and match the approved design.

5.2 Inspection—The USPS reserves the right to inspect units for conformance at any stage of manufacture. Inspection by the USPS does not relieve the approved source of the responsibility to provide conforming product. The USPS, may, at its discretion, revoke the approval status of any product that does not meet the requirements of this standard.

5.3 System—The approved source shall use a documented quality management system acceptable to the USPS. The USPS has the right to evaluate the acceptability and effectiveness of the approved source's quality management system prior to approval, and during tenure as an approved source. As a minimum, the quality management system shall include controls and record keeping in the following areas:

5.3.1 Document Control—Documents used in the manufacture of product shall be controlled. The control process for documents shall ensure the following:

• Documents are identified, reviewed, and approved prior to use.

• Revision status is identified.

• Documents of external origin are identified and controlled.

5.3.2 Supplier Oversight—A documented process shall ensure the following:

• Material requirements and specifications are clearly described in procurement documents.

• Inspection or other verification methods are established and implemented for validation of purchased materials.

5.3.3 Inspection and Testing—The approved source shall monitor and verify that product characteristics match approved design. This activity shall be carried out at appropriate stages of manufacture to ensure that only acceptable products are delivered.

5.3.4 Control of Nonconforming Product—The control method and disposition process shall be defined and ensure that any product or material that does not conform to the approved design is identified and controlled to prevent its unintended use or delivery.

5.3.5 Control of Inspection, Measuring, and Test Equipment—The approved source shall ensure that all equipment used to verify product conformance is controlled, identified, and calibrated at prescribed intervals traceable to nationally recognized standards in accordance with documented procedures.

5.3.6 Corrective Action—The approved source shall maintain a documented complaint process. This process shall ensure that all complaints are reviewed and that appropriate action is taken to determine cause and prevent reoccurrence. Action shall be taken in a timely manner and be based on the severity of the nonconformance.

Note: It is recognized that each approved source functions individually and consequently, the quality system of each approved source may differ in the specific methods of accomplishment. It is not the intent of this standard to attempt to standardize these systems, but to present the basic functional concepts that when conscientiously implemented will provide assurance that the approved source's product meets the requirements and fully matches the approved design.

In addition to outlining the approved source's approach to quality, the documentation should specify the methodology used to accomplish the interlinked processes and describe how they are controlled. The approved source shall submit its quality documentation to the Postal Service for review along with the preliminary design review.

5.3.7 Documentation Retention—All of the approved source's documentation pertaining to the approved product shall be kept for a minimum of three (3) years after shipment of product.

5.3.8 Documentation Submittal—The approved source shall submit a copy of their quality system documentation relevant to the manufacture of wall-mounted, centralized mail receptacles for review as requested during the approval process and tenure as an approved source.

6. APPLICATION REQUIREMENTS

6.1 Application Requirements—All correspondence and inquiries shall be directed to the address in 1.3. The application process consists of the following:

6.1.1 Preliminary Review—Manufacturers must first satisfy requirements of a preliminary review prior to submitting samples of any receptacles. The preliminary review consists of a review of the manufacturer's conceptual design drawings for each receptacle type for which the manufacturer is seeking approval. Computer-generated drawings are preferred, but hand-drawn sketches are acceptable provided they adequately depict the important design aspects of the proposed receptacle design. In particular, drawings should include overall unit with standard and optional compartment size information plus details on the design of such critical features as the carrier access, customer, parcel, and master load door(s) designs, hinge designs, all lock-mounting techniques and cam engagements, material selections, the 3-point latching and handle designs, the wall-mounting concept, and outgoing mail slot design. If drawings show that the proposed receptacle design appears likely to comply with the requirements of this standard, manufacturers will be notified in writing and may then continue with the application requirements described in 6.1.2. Do NOT submit any sample units to the USPS prior to complying with the requirements of 6.1.2. Notification that a manufacturer's drawings satisfy the requirements of the preliminary review does NOT constitute USPS approval of a design, and shall not be relied upon as an assurance that a design will ultimately be approved.

6.1.2 Independent Lab Testing—Upon receiving written notification from the USPS that their design(s) satisfies requirements of the preliminary review, manufacturers shall at their own expense submit at least one representative sample of the highest total-compartment version of each type of apartment receptacle for which the vendor seeks USPS approval to an independent laboratory for testing along with a copy of the preliminary review letter from the USPS. If the vendor plans to offer optional compartment sizes, the submitted samples shall include at least one of the largest compartment size. All tests shall be performed by an approved independent test lab, except for the security tests which shall be performed by the Postal Service. See Appendix A for a list of USPS-approved independent test labs.

6.1.3 Final Review—Manufacturers shall submit two representative samples of the largest (typically, the highest total-compartment) version to the USPS for security testing, final review, and approval. If the vendor plans to offer optional compartment sizes, the submitted samples shall include at least one of the largest compartment size. The sample shall be accompanied with a certificate of compliance and a copy of the laboratory test results (see 6.1.3.3). Receptacles submitted to the USPS (see 1.3) for final evaluation must be identical in every way to the receptacles to be marketed, and must be marked as specified in 3.11. Manufacturers may be subject to a verification of their quality system prior to approval. This may consist of a review of the manufacturer's quality manual (see 6.1.3.4) and an onsite quality system evaluation (see 5.2).

6.1.3.1 Installation Instructions—Manufacturers shall furnish a written copy of their installation instructions for review. These instructions shall contain all information as detailed in section 3.13.

6.1.3.2 Documentation—Units submitted for approval shall be accompanied by two complete sets of manufacturing drawings consisting of black on white prints (blueprints or sepia are unacceptable). The drawings shall be dated and signed by a manufacturer's representative(s). The drawings must completely document and represent the design of the unit tested. If other versions of the approved type unit are to be offered, the drawings must include the unique or differing design items of these versions. The drawings must include sufficient details to allow the USPS to inspect all materials, construction methods, processes, coatings, treatments, finishes (including paint types), control specifications, parts, and assemblies used in the construction of the unit. Additionally, the drawings must fully describe any purchased materials, components, and hardware including their respective finishes. The USPS may request individual piece parts to verify drawings.

6.1.3.3 Certification of Compliance & Test Results—Manufacturers shall furnish a written certificate of compliance indicating that their design fully complies with the requirements of this standard. In addition, the manufacturer shall submit the lab's original report which clearly shows results of each test conducted (see Table IV). The manufacturer bears all responsibility for their unit(s) meeting these requirements, and the USPS reserves the right to retest any and all units submitted including those which are available to the general public.

Table IV.—Test Requirements
Test | Requirement | Reference | Industry specifications
Capacity | Insertion of test gauges | 4.2 |
Operational Requirements | 10,000 cycles | 4.3 |
Water-Tightness | No appreciable moisture | 4.4 | UL 771, section 47.7.
Salt Fog Resistance | 25 cycles | 4.5 | ASTM G85.
Abrasion Resistance | 75 liters | 4.6 | ASTM D968.
Temperature Stress Test | Shall function between −40° F and 140° F | 4.7
Structural Rigidity Requirements | Refer to Table I for loads and points, maximum ⅛ inch permanent deformation | 4.8 |
Impact | 2 lbs. dropped from 6 inches | 4.9 |
Flammability | V-1 or better |  | ASTM D 3801.

6.1.3.4 Quality Policy Manual—Manufacturer shall submit its quality policy manual to the address listed in section 1.3.

7. APPROVAL OR DISAPPROVAL

7.1 Disapproval—Written notification, including reasons for disapproval, will be sent to the manufacturer within 30 days of completion of the final review of all submitted units. All correspondence and inquiries shall be directed to the address listed in 1.3

7.1.1 Disapproved Receptacles—Units disapproved will be disposed of in 30 calendar days from the date of the written notification of disapproval or returned to the manufacturer, if requested, provided the manufacturer pays shipping costs.

7.2 Approval—One set of manufacturing drawings with written notification of approval will be returned to the manufacturer. The drawings will be stamped and identified as representing each unit.

7.2.1 Approved Receptacles—Units that are approved will be retained by the USPS.

7.2.2. Rescission—Manufacturer's production units shall be constructed in accordance with the USPS-certified drawings and the provisions of this specification and be of the same materials, construction, coating, workmanship, finish, etc., as the approved units. The USPS reserves the right at any time to examine and retest units obtained either in the general marketplace or from the manufacturer. If the USPS determines that a receptacle model is not in compliance with this standard or is out of conformance with approved drawings, the USPS may, at its discretion, rescind approval of the receptacle as follows:

7.2.2.1 Written Notification—The USPS shall provide written notification to the manufacturer that a receptacle is not in compliance with this standard or is out of conformance with approved drawings. This notification shall include the specific reasons that the unit is noncompliant or out of conformance and shall be sent via Registered Mail™.

7.2.2.1.1 Health and Safety—If the USPS determines that the noncompliance or nonconformity constitutes a danger to the health or safety of customers and/or letter carriers, the USPS may, at its discretion, immediately rescind approval of the unit. In addition, the USPS may, at its discretion, order that production of the receptacle cease immediately and that any existing inventory not be sold for receipt of U.S. mail.

7.2.2.2 Manufacturer's Response—In all cases of noncompliance or nonconformity other than those determined to constitute a danger to the health or safety of customers and/or letter carriers, the manufacturer shall confer with the USPS and shall submit one sample of a corrected receptacle to the USPS for approval no later than 45 calendar days after receipt of the notification described in 7.2.2.1. Failure to confer or submit a corrected receptacle within the prescribed period shall constitute grounds for immediate rescission.

7.2.2.3 Second Written Notification—The USPS shall respond to the manufacturer in writing, via Registered Mail, no later than 30 calendar days after receipt of the corrected receptacle with a determination of whether the manufacturer's submission is accepted or rejected and with specific reasons for the determination.

7.2.2.4 Manufacturer's Second Response—If the USPS rejects the corrected receptacle, the manufacturer may submit a second sample of the corrected receptacle to the USPS for approval no later than 45 calendar days after receipt of the notification described in 7.2.2.3. Failure to confer or submit a corrected receptacle within the prescribed period shall constitute grounds for immediate rescission.

7.2.2.5 Final USPS Rescission Notification—The USPS shall provide a final response to the manufacturer in writing no later than 30 calendar days after receipt of the second sample corrected receptacle with a determination of whether the manufacturer's submission is accepted or rejected and with specific reasons for the determination. If the second submission is rejected, the USPS may, at its discretion, rescind approval of the receptacle. In addition, the USPS may, at its discretion, order that production of the receptacle cease immediately, and that any existing inventory not be sold or used for receipt of U.S. mail. If the USPS rescinds approval, the manufacturer is not prohibited from applying for a new approval pursuant to the provisions of section 6.

7.2.3 Revisions, Product or Drawings—Changes that affect the form, fit, and/or function (i.e., dimensions, material, finish, etc.) of approved products or drawings shall not be made without written USPS approval. Any proposed changes shall be submitted with the affected documentation reflecting the changes (including a notation in the revision area), and a written explanation of the changes. One unit, incorporating the changes, may be required to be resubmitted for testing and evaluation for approval.

7.2.3.1 Corporate or Organizational Changes—If any substantive part of the approved manufacturer's structure changes from what existed when the manufacturer became approved, the manufacturer shall promptly notify the USPS and will be subject to a reevaluation of their approved product(s) and/or quality system. Examples of substantive structural changes include the following: change in ownership, executive or quality management; major change in quality policy or procedures; relocation of manufacturing facilities; major equipment or manufacturing process change (e.g., outsourcing vs. inplant fabrication); etc. Notification of such changes must be sent to the address in section 1.3.

BILLING CODE 7710-12-P

Appendix A—USPS-Approved Independent Test Laboratories

(1) ACTS Test Labs, Contact: Dennis Maclaughlin, Phone: 716-505-3547, Fax: 716-505-3301, 100 Northpointe Parkway, Buffalo, NY 14228-1884.

(2) The Coatings Lab, Contact: Tom Schwerdt, Phone: 713-981-9368, Fax: 713-776-9634, 10175 Harwin Drive, Suite 110, Houston, TX 77036.

(3) Ithaca Materials Research & Testing, Inc. (IMR), Contact: Jeff Zerilli, Vice President, Phone: 607-533-7000, Lansing Business and Technology Park, 31 Woodsedge Drive, Lansing, NY 14882.

(4) Independent Test Laboratories, Inc., Contact: Robet Bouvier, Phone: 800-962-Test, Fax: 714-641-3836, 1127B Baker Street, Costa Mesa, CA 92626.

(5) Midwest Testing Laboratories, Inc., Contact: Cherie Ulatowski, Phone: 248-689-9262, Fax: 248-689-7637, 1072 Wheaton, Troy, MI 48083.

Note: Additional test laboratories may be added provided they satisfy USPS certification criteria. Interested laboratories should contact: USPS Engineering, Test Evaluation and Quality, 8403 Lee Highway, Merrifield, VA 22082-8101.

Neva R. Watson,
Attorney, Legislative.

[FR Doc. 04-8972 Filed 4-20-04; 8:45 am]

BILLING CODE 7710-12-C